DEPARTMENT OF THE TREASURY

Office of the Comptroller of the Currency

Agency Information Collection Activities: Proposed Extension of Information Collection; Comment Request

AGENCY: Office of the Comptroller of the Currency (OCC), Treasury.

ACTION: Notice and request for comment.

SUMMARY: The OCC, as part of its continuing effort to reduce paperwork and respondent burden, invites the general public and other Federal agencies to take this opportunity to comment on a continuing information collection, as required by the Paperwork Reduction Act of 1995. An agency may not conduct or sponsor, and a respondent is not required to respond to, an information collection unless it displays a currently valid OMB control number. The OCC is soliciting comment concerning its information collection titled, “International Regulation—12 CFR 28.”

DATES: You should submit written comments by April 22, 2002.

ADDRESSES: You should direct comments to the Communications Division, Office of the Comptroller of the Currency, Public Information Room, Mailstop 1-5, Attention: 1557-0102, 250 E Street, SW., Washington, DC 20219. Due to recent, temporary disruptions in the OCC's mail service, commenters are encouraged to submit comments by fax or e-mail. Comments may be sent by fax to (202) 874-4448, or by e-mail to regs.comments@occ.treas.gov. You can inspect and photocopy the comments at the OCC's Public Information Room, 250 E Street, SW., Washington, DC 20219. You can make an appointment to inspect the comments by calling (202) 874-5043.

A copy of the comments should also be sent to the OMB Desk Officer for the OCC: Alexander T. Hunt, Office of Information and Regulatory Affairs, Office of Management and Budget, New Executive Office Building, Room 3208, Washington, DC 20503.

FOR FURTHER INFORMATION CONTACT: You can request additional information from Jessie Dunaway, OCC Clearance Officer, or Camille Dixon, (202) 874-5090, Legislative and Regulatory Activities Division, Office of the Comptroller of the Currency, 250 E Street, SW., Washington, DC 20219.

SUPPLEMENTARY INFORMATION: The OCC is proposing to extend OMB approval of the following information collection:

Title: International Regulation—12 CFR 28.

OMB Number: 1557-0102.

Description: This submission covers an existing regulation and involves no change to the regulation or to the information collection. The OCC requests only that OMB extend its approval of the information collection. The OCC's regulations at 12 CFR part 28 implement requirements imposed on national banks and Federal branches and agencies concerning international activities. The information collections in part 28 are as follows:

Section 28.3 requires a national bank to notify the OCC when it takes certain actions regarding its foreign operations.

Section 28.14 requires a designation of one branch or agency to maintain consolidated information.

Section 28.15 requires a national bank to maintain records and to seek OCC approval before permitting withdrawal of certain foreign bank capital equivalency deposits.

Section 28.16 contains recordkeeping requirements and allows a foreign bank to apply to the OCC for an exemption to permit an uninsured Federal branch to accept or maintain certain deposit accounts.

Section 28.18 requires a Federal branch or agency to maintain records, in English, and to provide the OCC with a copy of certain reports filed with other Federal regulatory agencies.

Section 28.20 requires a foreign bank to obtain OCC approval to maintain certain assets.

Section 28.52 requires a banking institution to maintain records regarding its allocated transfer risk reserve.

Section 28.53 requires a banking institution to maintain records regarding its accounting for fees on international loans.

These information collection requirements ensure bank compliance with applicable Federal law, further bank safety and soundness, provide protections for banks, and further public policy interests.

Type of Review: Extension of a currently approved collection.

Affected Public: Businesses or other for-profit.

Estimated Number of Respondents: 170.

Estimated Total Annual Responses: 170.

Frequency of Response: On occasion.

Estimated Total Annual Burden: 5,345 hours.

Comments submitted in response to this notice will be summarized and included in the request for OMB approval. All comments will become a matter of public record. Comments are invited on:

(a) Whether the collection of information is necessary for the proper performance of the functions of the agency, including whether the information has practical utility;

(b) The accuracy of the agency's estimate of the burden of the collection of information;

(c) Ways to enhance the quality, utility, and clarity of the information to be collected;

(d) Ways to minimize the burden of the collection on respondents, including through the use of automated collection techniques or other forms of information technology; and 1

(e) Estimates of capital or startup costs and costs of operation, maintenance, and purchase of services to provide information.

Dated: February 12, 2002.
Mark J. Tenhundfeld,
Assistant Director, Legislative and Regulatory Activities Division.

[FR Doc. 02-3937 Filed 2-15-02; 8:45 am]

BILLING CODE 4810-33-P